DEPARTMENT OF ENERGY

Federal Energy Regulatory Commission

Combined Notice of Filings #1

Take notice that the Commission received the following electric rate filings:

Docket Numbers: ER18-403-001.

Applicants: Westar Energy, Inc.

Description: Tariff Amendment: Amendment to Notice of Cancellation of certain designated Rate Schedules to be effective 6/1/2017.

Filed Date: 1/10/18.

Accession Number: 20180110-5168.

Comments Due: 5 p.m. ET 1/31/18.

Docket Numbers: ER18-634-000.

Applicants: Access Energy Solutions, LLC.

Description: Baseline eTariff Filing: MBR Tariff to be effective 1/31/2018.

Filed Date: 1/11/18.

Accession Number: 20180111-5081.

Comments Due: 5 p.m. ET 2/1/18.

Docket Numbers: ER18-635-000.

Applicants: Sierra Pacific Power Company.

Description: § 205(d) Rate Filing: Rate Schedule No. 71—CalPeco & SPPC 609 Line Termination Agr to be effective 1/12/2018.

Filed Date: 1/11/18.

Accession Number: 20180111-5105.

Comments Due: 5 p.m. ET 2/1/18.

Docket Numbers: ER18-636-000.

Applicants: Midcontinent Independent System Operator, Inc.

Description: § 205(d) Rate Filing: 2018-01-11_Revisions to update Attachment X: Appendix 1 Interconnection Request to be effective 3/1/2018.

Filed Date: 1/11/18.

Accession Number: 20180111-5113.

Comments Due: 5 p.m. ET 2/1/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2018.
Kimberly D. Bose,
Secretary.

[FR Doc. 2018-00742 Filed 1-17-18; 8:45 am]

BILLING CODE 6717-01-P